SECURITIES AND EXCHANGE COMMISSION

[Release No. 34-56947; File No. SR-Amex-2007-134]

Self-Regulatory Organizations; American Stock Exchange LLC; Notice of Filing and Immediate Effectiveness of a Proposed Rule Change To Amend Commentary .10 to Amex Rule 584 To Delete the Reference to the Weekly Bulletin

December 12, 2007.

Pursuant to Section 19(b)(1) of the Securities Exchange Act of 1934 (“Act”) ¹ and Rule 19b-4 thereunder,² notice is hereby given that on December 6, 2007, the American Stock Exchange LLC (“Amex” or the “Exchange”) filed with the Securities and Exchange Commission (“Commission”) the proposed rule change as described in Items I and II below, which Items have been prepared substantially by the Amex. The Amex filed the proposed rule change under Section 19(b)(3)(A) of the Act ³ and Rule 19b-4(f)(6) thereunder,⁴ which renders the proposal effective upon filing with the Commission. The Commission is publishing this notice to solicit comments on the proposed rule change from interested persons.

¹ 15 U.S.C. 78s(b)(1).

² 17 CFR 240.19b-4.

³ 15 U.S.C. 78S(b)(3)(A).

⁴ 17 CFR 240.19b-4(f)(6).

I. Self-Regulatory Organization's Statement of the Terms of Substance of the Proposed Rule Change

The Amex proposes to adopt changes to Commentary .10 to Amex Rule 584 to delete the reference to the Weekly Bulletin therein. The text of the proposed rule change is available at http://www.amex.com, the principal offices of the Amex, and the Commission's Public Reference Room.

II. Self-Regulatory Organization's Statement of the Purpose of, and Statutory Basis for, the Proposed Rule Change

In its filing with the Commission, the Amex included statements concerning the purpose of and basis for the proposed rule change and discussed any comments it received on the proposed rule change. The text of these statements may be examined at the places specified in Item IV below. The Amex has prepared summaries, set forth in Sections A, B, and C below, of the most significant aspects of such statements.

A. Self-Regulatory Organization's Statement of the Purpose of, and Statutory Basis for, the Proposed Rule Change

1. Purpose

The Exchange proposes to amend Commentary .10 to Amex Rule 584 ⁵ to delete the reference to the Weekly Bulletin therein. Commentary .10 to Amex Rule 584 requires that all information filed with the Exchange pursuant to Rule 584 be made public in the lists of the meetings of stockholders in the Weekly Bulletin.

⁵ Amex Rule 584 specifies requirements for members and member organizations regarding proxy contests involving unregistered companies.

The Weekly Bulletin, published by the Exchange, currently contains information on the seat market, admission of members, listings and stockholder meetings. In deleting the reference to the Weekly Bulletin in Commentary .10 to Amex Rule 584, the Exchange seeks the flexibility of posting the Weekly Bulletin and/or the information contained therein on the AmexTrader Web site (http://www.amextrader.com) for a wider circulation.⁶

⁶ In the instance that a person does not have access to the Internet, the list of meetings of stockholders will be made available upon request.

The Commission previously approved an Exchange proposal to delete references in Amex's Constitution and Rules to the requirement that membership, corporate governance, stockholder meetings and disciplinary information be published in the Weekly Bulletin.⁷ However, Commentary .10 to Amex Rule 584 still contains a reference to the Weekly Bulletin. Therefore, the Exchange proposes to delete the reference to the Weekly Bulletin in Commentary .10 of Amex Rule 584 in order to harmonize this rule with the remainder of Amex's Constitution and Rules.

⁷ See Securities Exchange Act Release No. 41840 (Sept. 7, 1999), 64 FR 50128 (Sept. 15, 1999) (SR-Amex-99-31).

The Exchange does not believe that this proposal will engender any controversy as the information contained in the Weekly Bulletin will continue to be available to its existing constituency and will be made available to the general public through the AmexTrader Web site.

2. Statutory Basis

The proposed rule change is consistent with Section 6(b) of the Act ⁸ in general, and furthers the objectives of Section 6(b)(5) of the Act,⁹ in particular, in that it is designed to prevent fraudulent and manipulative acts and practices, to remove impediments to and perfect the mechanism of a free and open market and a national market system, and, in general, to protect investors and the public interest.

⁸ 15 U.S.C. 78f(b).

⁹ 15 U.S.C. 78f(b)(5).

B. Self-Regulatory Organization's Statement on Burden on Competition

The proposed rule change does not impose any burden on competition that is not necessary or appropriate in furtherance of the purposes of the Act.

C. Self-Regulatory Organization's Statement on Comments on the Proposed Rule Change Received From Members, Participants or Others

No written comments were solicited or received with respect to the proposed rule change.

III. Date of Effectiveness of the Proposed Rule Change and Timing for Commission Action

The Amex has designated the proposed rule change as one that: (1) Does not significantly affect the protection of investors or the public interest; (2) does not impose any significant burden on competition; and (3) does not become operative for 30 days after the date of filing, or such shorter time as the Commission may designate if consistent with the protection of investors and the public interest. In addition, as required under Rule 19b-4(f)(6)(iii),¹⁰ the Amex provided the Commission with written notice of its intention to file the proposed rule change, along with a brief description of the text of the proposed rule change, at least five business days prior to filing the proposal with the Commission. Therefore, the proposed rule change has become effective pursuant to Section 19(b)(3)(A) of the Act ¹¹ and Rule 19b-4(f)(6) thereunder.¹²

¹⁰ 17 CFR 240.19b-4(f)(6)(iii).

¹¹ 15 U.S.C. 78s(b)(3)(A).

¹² 17 CFR 240.19b-4(f)(6).

The Amex has requested the Commission to waive the 30-day operative delay so that the proposal may become operative immediately upon filing.

The Commission hereby grants the Amex's request ¹³ and believes that waiving the 30-day operative delay is consistent with the protection of investors and the public interest. The Commission notes that it previously approved an Exchange proposal to delete references in the Amex's Constitution and Rules to the requirement that membership, corporate governance, stockholder meetings and disciplinary information be published in the Weekly Bulletin ¹⁴ and that the proposed amendment conforms the language in Commentary .10 of Amex Rule 584 with the remainder of the Exchange's Constitution and Rules by deleting the reference to the Weekly Bulletin. In addition, the Commission believes that waiver of the 30-day operative period would enable the Exchange to implement the proposal as quickly as possible, and thereby provide for greater uniformity among the Amex's Constitution and Rules. For these reasons, the Commission designates the proposal to be operative upon filing with the Commission.

¹³ For purposes only of waiving the 30-day operative delay, the Commission has considered the proposal's impact on efficiency, competition, and capital formation. 15 U.S.C. 78c(f).

¹⁴ See note 7, supra.

At any time within 60 days of the filing of the proposed rule change, the Commission may summarily abrogate such rule change if it appears to the Commission that such action is necessary or appropriate in the public interest, for the protection of investors, or otherwise in furtherance of the purposes of the Act.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-Amex-2007-134 on the subject line.

Paper Comments

• Send paper comments in triplicate to Nancy M. Morris, Secretary, Securities and Exchange Commission, Station Place, 100 F Street, NE., Washington, DC 20549-1090.

All submissions should refer to File Number SR-Amex-2007-134. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room, 100 F Street, NE., Washington, DC 20549, on official business days between the hours of 10 a.m. and 3 p.m. Copies of such filing also will be available for inspection and copying at the principal office of the Amex. All comments received will be posted without change; the Commission does not edit personal identifying information from submissions. You should submit only information that you wish to make publicly available. All submissions should refer to File Number SR-Amex-2007-134 and should be submitted on or before January 10, 2008.

For the Commission, by the Division of Trading and Markets, pursuant to delegated authority.¹⁵
¹⁵ 17 CFR 200.30-3(a)(12).
Florence E. Harmon,
Deputy Secretary.

[FR Doc. E7-24693 Filed 12-19-07; 8:45 am]

BILLING CODE 8011-01-P